DEPARTMENT OF THE TREASURY

United States Mint

2018 Pricing of Numismatic Gold, Commemorative Gold, Platinum, and Palladium Products Grid

AGENCY: United States Mint, Department of the Treasury.

ACTION: Notice.

The United States Mint announces 2018 revisions to include palladium pricing within the Numismatic Gold, Commemorative Gold, Platinum, and Palladium Products Grid.

An excerpt of the grid with a recent price range for palladium appears below:

BILLING CODE P

The complete 2018 Pricing of Numismatic Gold, Commemorative Gold, Platinum, and Palladium Products Grid will be available at https://catalog.usmint.gov/coin-programs/american-eagle-coins.

Pricing can vary weekly dependent upon the London Bullion Market Association gold, platinum, and palladium prices weekly average. The pricing for all United States Mint numismatic gold, platinum, and palladium products is evaluated every Wednesday and modified as necessary.

FOR FURTHER INFORMATION CONTACT: Cathy Olson; Numismatic and Bullion Directorate; United States Mint; 801 9th Street NW, Washington, DC 20220; or call 202-354-7500.

Authority: 31 U.S.C. 5111, 5112, & 9701, Public Law 111-303.

Dated: August 20, 2018.
David J. Ryder,
Director, United States Mint.

[FR Doc. 2018-18233 Filed 8-28-18; 8:45 am]

BILLING CODE C